DEPARTMENT OF TRANSPORTATION

Federal Motor Carrier Safety Administration

[Docket No. FMCSA-2011-0380]

Qualification of Drivers; Exemption Applications; Vision

AGENCY: Federal Motor Carrier Safety Administration (FMCSA), DOT.

ACTION: Notice of applications for exemptions; request for comments.

SUMMARY: FMCSA announces receipt of applications from twelve individuals for exemption from the vision requirement in the Federal Motor Carrier Safety Regulations. If granted, the exemptions would enable these individuals to qualify as drivers of commercial motor vehicles (CMVs) in interstate commerce without meeting the Federal vision requirement.

DATES: Comments must be received on or before April 23, 2012.

ADDRESSES: You may submit comments bearing the Federal Docket Management System (FDMS) Docket No. FMCSA-2011-0380 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The twelve individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Robert J. Ambrose

Mr. Ambrose, age 57, has had amblyopia in his left eye since childhood. The best corrected visual acuity in right eye is 20/15 and in his left eye, 20/60. Following an examination in 2011, his ophthalmologist noted, “It is my opinion, this patient has sufficient vision to perform the driving tasks required to operate a commercial vehicle.” Mr. Ambrose reported that he has driven straight trucks for 3 years, accumulating 60,000 miles. He holds a Class A Commercial Driver's License (CDL) from Massachusetts. His driving record for the last 3 years shows no crashes and no convictions for moving violations in a Commercial Motor Vehicle (CMV).

Clifford W. Doran, Jr.

Mr. Doran, 51, has had a macular scar in his left eye due to a traumatic injury sustained in 2003. The best corrected visual acuity in his right eye is 20/20 and in his left eye, 20/400. Following an examination in 2011, his ophthalmologist noted, “I see no contraindications to him operating a commercial motor vehicle safely.” Mr. Doran reported that he has driven straight trucks for 1 year, accumulating 12,000 miles and tractor-trailer combinations for 19 years accumulating 3 million miles. He holds a Class A CDL from North Carolina. His driving record for the last 3 years shows no crashes and no convictions for moving violations in a CMV.

Scott T. Green

Mr. Green, 31, has had amblyopia in his left eye since birth. The best corrected visual acuity in right eye is 20/20 and in his left eye, 20/70. Following an examination in 2011, his optometrist noted, “It is my opinion that his visual condition is stable and that he has sufficient visual function to perform the driving tasks required to operate a commercial vehicle.” Mr. Green reported that he has driven straight trucks for 6 years, accumulating 37,500 miles. He holds a Class C operator's license from Oregon. His driving record for the last 3 years shows no crashes and no convictions for moving violations in a CMV.

Mark J. Meacham

Mr. Meacham, 49, has a prosthetic left eye due to a traumatic injury sustained 20 years ago. The best corrected visual acuity in right eye is 20/20. Following an examination in 2011, his ophthalmologist noted, “In my medical opinion, you have sufficient vision in the right eye to perform the driving tasks required to operate a commercial vehicle.” Mr. Meacham reported that he has driven straight trucks for 15 years, accumulating 2.25 million miles. He holds a Class C operator's license from North Carolina. His driving record for the last 3 years shows one crash, which he was not cited for, and one conviction for speeding in a CMV; he exceeded the speed limit by 9 mph.

Ronnie D. Owens

Mr. Owens, 63, has a prosthetic right eye due to a traumatic injury sustained at age 23. The best corrected visual acuity in left eye is 20/20. Following an examination in 2011, his optometrist noted, “In my professional opinion, Mr. Owens has sufficient vision to operate a commercial vehicle.” Mr. Owens reported that he has driven straight trucks for 47 years, accumulating 2.9 million miles and tractor-trailer combinations for 42 years, accumulating 315,000 miles. He holds a Class A CDL from Missouri. His driving record for the last 3 years shows no crashes and conviction for speeding in a CMV; he exceeded the speed limit by 20 mph.

Rojelio Garcia-Pena

Mr. Garcia-Pena, 49, has had amblyopia in his left eye since birth. The best corrected visual acuity in right eye is 20/20 and in his left eye, 20/400. Following an examination in 2011, his optometrist noted, “Mr. Pena has full visual fields in each eye as well as normal color vision. His best corrected visual acuity in his right eye is 20/20 and in his left eye 20/400. Following an examination in 2011, his optometrist noted, “In my opinion, the above mentioned findings qualify Mr. Pena to operate a commercial vehicle safely.” Mr. Garcia-Pena reported that he has driven straight trucks for 14 years, accumulating 280,000 miles. He holds a Class A CDL from Michigan. His driving record for the last 3 years shows two crashes; he was cited for one of the crashes, and no convictions for moving violations in a CMV.

John M. Riley

Mr. Riley, 34, has had amblyopia in his left eye since childhood. The best corrected visual acuity in right eye is 20/20 and in his left eye, 20/150. Following an examination in 2011, his optometrist noted, “In my medical opinion, I believe Mr. Riley has sufficient vision to perform the driving tasks required to operate a commercial vehicle.” Mr. Riley reported that he has driven straight trucks for 15 years, accumulating 750,000 miles and tractor-trailer combinations for 15 years, accumulating 675,000 miles. He holds a Class A CDL from Alabama. His driving record for the last 3 years shows no crashes and no convictions for moving violations in a CMV.

Jeffrey A. Sheets

Mr. Sheets, 29, has aphakia in his right eye due to a traumatic injury sustained at age 3. The best corrected visual acuity in right eye is count-finger vision and in his left eye, 20/20. Following an examination in 2011, his optometrist noted, “In my opinion, Mr. Sheets does have sufficient vision to perform the driving tasks required to operate a commercial vehicle.” Mr. Sheets reported that he has driven straight trucks for 7 years, accumulating 525,000 miles and tractor-trailer combinations for 1 year, accumulating 20,000 miles. He holds a Class A CDL from Arizona. His driving record for the last 3 years shows no crashes and no convictions for moving violations in a CMV.

Scotty W. Sparks

Mr. Sparks, 37, has had amblyopia in his left eye since birth. The best corrected visual acuity in right eye is 20/20 and in his left eye, 20/200. Following an examination in 2011, his optometrist noted, “It is my opinion that despite the poor visual acuity in Mr. Sparks left eye, he does have normal acuity in the right eye and normal visual fields in both eyes, allowing for sufficient vision to perform the driving tasks required to operate a commercial motor vehicle in interstate commerce.” Mr. Sparks reported that he has driven straight trucks for 12 years, accumulating 288,000 miles. He holds a Class B CDL from Kentucky. His driving record for the last 3 years shows no crashes and no convictions for moving violations in a CMV.

Scottie Stewart

Mr. Stewart, 57, has had amblyopia in his right eye since childhood. The best corrected visual acuity in right eye is hand motion vision and in his left eye, 20/20. Following an examination in 2011, his ophthalmologist noted, “Patient has sufficient vision to perform said tasks required to operate a commercial vehicle.” Mr. Stewart reported that he has driven tractor-trailer combinations for 23 years, accumulating 1.7 million miles. He holds a Class A CDL from Mississippi. His driving record for the last 3 years shows no crashes and no convictions for moving violations in a CMV.

Charles E. Stokes

Mr. Stokes, 59, has complete loss of vision in his right eye. The best corrected visual acuity in right eye is hand motion vision and in his left eye, 20/25. Following an examination in 2011, his ophthalmologist noted, “Although both conditions can potentially be progressive, currently his monocular status and intact visual field would not prohibit him from operating a commercial vehicle.” Mr. Stokes reported that he has driven straight trucks for 16 years, accumulating 1.5 million miles and tractor-trailer combinations for 18 years, accumulating 1.1 million miles. He holds a Class A CDL from Michigan. His driving record for the last 3 years shows two crashes in a CMV, for which he was cited, and no convictions for moving violations in a CMV.

Timothy J. Sullivan

Mr. Sullivan, 60, has complete loss of vision in his left eye due to a traumatic injury sustained in 1998. The best corrected visual acuity in right eye is 20/20 and in his left eye, light perception. Following an examination in 2011, his ophthalmologist noted, “In my medical opinion, I feel Mr. Sullivan has sufficient vision to perform the driving tasks required to operate a commercial vehicle.” Mr. Sullivan reported that he has driven straight for 18 years, accumulating 1.4 million miles. He holds a Class E operator's license from Florida. His driving record for the last 3 years shows no crashes and no convictions for moving violations in a CMV.

Request for Comments

In accordance with 49 U.S.C. 31136(e) and 31315, FMCSA requests public comment from all interested persons on the exemption petitions described in this notice. The Agency will consider all comments received before the close of business April 23, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: March 16, 2012.
Larry W. Minor,
Associate Administrator for Policy.

[FR Doc. 2012-7088 Filed 3-22-12; 8:45 am]

BILLING CODE 4910-EX-P